DEPARTMENT OF HEALTH AND HUMAN SERVICES

Centers for Disease Control and Prevention

Board of Scientific Counselors, National Center for Injury Prevention and Control (BSC NCIPC); Correction

Notice is hereby given of a change in the meeting of the Board of Scientific Counselors, National Center for Injury Prevention and Control (BSC NCIPC; December 12, 2018, 9:00 a.m. to 4:30 p.m., EST, which was published in the Federal Register on November 2, 2018 Volume 83, Number 213, page 55171.

The registration information should read as follows: Due to the limited availability of phone line ports, we are encouraging the pubic to please register using the link provided: https://www.surveymonkey.com/r/JR6LJX7.

FOR FURTHER INFORMATION CONTACT: Gwendolyn H. Cattledge, Ph.D., M.S.E.H., Deputy Associate Director for Science, NCIPC, CDC, 4770 Buford Highway NE, Mailstop F-63, Atlanta, GA 30341, Telephone (770) 488-1430. Email address: ncipcbsc@cdc.gov.

The Chief Operating Officer, Centers for Disease Control and Prevention, has been delegated the authority to sign Federal Register notices pertaining to announcements of meetings and other committee management activities, for both the Centers for Disease Control and Prevention and the Agency for Toxic Substances and Disease Registry.

Sherri Berger,
Chief Operating Officer, Centers for Disease Control and Prevention.

[FR Doc. 2018-25133 Filed 11-16-18; 8:45 am]

BILLING CODE 4163-18-P